DEPARTMENT OF AGRICULTURE

Forest Service

Supplemental Environmental Impact Statement to the 2011 Final EIS for the Leasing and Underground Mining of the Greens Hollow Federal Coal Lease Tract (UTU-84102)

AGENCY: Forest Service, USDA.

ACTION: Notice of intent to prepare a supplemental environmental impact statement.

SUMMARY: The Manti-La Sal and Fishlake National Forests along with the Bureau of Land Management (BLM), Price Field Office as joint lead agencies announce their intent to prepare a supplemental Environmental Impact Statement (EIS) and Record of Decision to the 2011 Final EIS For the Leasing and Undeground Mining of the Greens Hollow Federal Coal Lease Tract UTU-84102. Supplemental analyses are required to correct deficiencies in the Final EIS.

DATES: Additional scoping will not be conducted in accordance with 40 CFR 1502.9(c)(4). The draft supplemental EIS is expected in late December 2012 and the final supplemental EIS is expected in March 2013. There will be a 45-day comment period after the draft supplemental EIS is issued.

ADDRESSES: Send written comments to Allen Rowley, Forest Supervisor, 115 East 900 North, Richfield, Utah 84701. Comments may also be sent via email to comments-intermtn-fishlake@fs.fed.us, or via facsimile to 435-896-9347. Please reference Greens Hollow Supplemental EIS in the subject field.

FOR FURTHER INFORMATION CONTACT: Marianne Orton, Forest Environmental Coordinator, Fishlake National Forest, 115 East 900 North, Richfield, Utah 84701 or phone 435-896-1090. Individuals who use telecommunication devices for the deaf (TDD) may call the Federal Information Relay Service (FIRS) at 1-800-877-8339 between 8 a.m. and 8 p.m., Eastern Time, Monday through Friday.

SUPPLEMENTARY INFORMATION: The proposed Greens Hollow Federal Coal Lease Tract is located on the Manti-La Sal and Fishlake National Forests in Sanpete and Sevier counties, Utah. The surface and coal resources are both federally owned. The Forests administer the surface resources, while the BLM administers the subsurface coal resources. The tract is located on the Muddy Creek and North Fork Quitchupah Creek drainages approximately 10 air miles west of the town of Emery, Utah. The tract is estimated to contain about 56.6 million tons of recoverable coal reserves. The tract is being considered for competitive coal leasing under BLM regulations at 43 CFR part 3400.

Coal in the tract would be accessed and recovered using underground longwall mining methods, with foreseeable access from existing adjacent leases. The Forest Service and BLM have determined that data are available to meet the Data Adequacy Standards for Federal Coal Leasing, Uinta-Southwestern Utah Coal Region.

The final coal lease tract, as amended by BLM's Tract Delineation Team, encompasses 6,175 acres of Federal coal estate. The proposed lease contains about 6,096 acres of National Forest System (NFS) lands administered by the Manti-La Sal National Forest and about 79 acres of NFS lands administered by the Fishlake National Forest.

A Final EIS for the Leasing and Underground Mining of the Greens Hollow Federal Coal Lease Tract (UTU-84102) was released to the public along with the Record of Decision in December 2011. Subsequently, the decision was made to withdraw the Record of Decision and prepare a Supplemental EIS.

Purpose and Need for Action

The purpose for developing this Supplemental EIS is to clarify the decisions to be made and agency decision authority, analyze the environmental consequences of potential actions to be taken by each agency, make technical corrections, and address agency compliance actions and key resource concerns not previously analyzed in the original 2011 Final EIS. The Supplemental EIS will replace the Final EIS in its entirety. There is a need to comply with current direction regarding management of Inventoried Roadless Areas and unroaded/undeveloped areas, address key resource concerns, and update analysis for aquatic management indicator species and sage-grouse.

The Forest Service and the BLM have identified a need to respond to a federal coal lease-by-application, and assess whether or not to offer certain NFS lands for lease by competitive bid. The purpose of the federal agencies' actions is to facilitate continued development and recovery of federally managed coal resources in an environmentally sound manner. The Proposed Action responds to the federal government's overall policy to foster and encourage private enterprise in the development of economically sound and stable industries, and in the orderly and economic development of domestic resources to help assure satisfaction of industrial, security, and environmental needs.

The BLM is considering the Proposed Action because it would be an integral part of the BLM's coal leasing program under authority of the Mineral Leasing Act of 1920, as ammended by the Federal Coal Leasing Amendments Act of 1976 and supplemented in 1978, and by implementing regulations at 43 CFR 3425, Lease-On-Application. Coal developent is recognized as an appropriate use of public lands within the Wasatch Plateau Coal Field. The BLM will consider the approval of the Proposed Action in a manner that minimizes impacts on or to other resource values (including water and cultural resources), avoids or reduces impact on resources and activities, and prevents unnecessary or undue degradation of public lands.

Proposed Action

The action proposed to meet the purpose and need is for the Forest Service to consent to the BLM offering the Greens Hollow Federal Coal Lease Tract (UTU-84102) for competitive bid. The Forest Service consent decision would include special coal lease stipulations for use and protection of non-mineral interests, and the BLM decision would include stipulations related to the mineral resource.

Lead and Cooperating Agencies

The Bureau of Land Management, Price Field Office, and the Forest Service, Manti-La Sal and Fishlake National Forests, are joint lead agencies for this project. The USDI Office of Surface Mining (OSM) will participate as a cooperating agency.

Responsible Official

The Responsible Official for the Forest Service is Allen Rowley, Manti-La Sal Acting Forest Supervisor and Fishlake Forest Supervisor, 115 East 900 North, Richfield, Utah 84701. The responsible official for the BLM is William Stringer, Green River District Manager, 170 South 500 East, Vernal Utah 84078.

Nature of Decision To Be Made

In accordance with the Federal Coal Leasing Amendments Act of 1975, which amended the Mineral Leasing Act of 1920, and enacting regulations at 43 CFR 3400, the Forest Supervisor for the Manti-La Sal and Fishlake National Forests, will decide whether or not to consent to BLM leasing the subject federal coal lease tract. As part of its consent decision, the Forest Service will identify special coal lease stipulations needed to protect non-mineral resources.

In accordance with the Mineral Leasing Act of 1920, as amended, and contingent on consent of the surface managing agency, the Green River District Manager of the BLM will decide whether or not to offer the tract for competitive leasing and under what terms, conditions, and special stipulations.

Preliminary Issues

This Supplemental EIS will analyze issues relating to the potential for underground mining and associated subsidence and foreseeable surface uses to affect: Geologic resources (including mining-induced subsidence and seismicity); existing and reasonably forseeable surface structures and facilities; surface and ground water resources, including water quantity and water quality; terrestrial and aquatic wildlife resources (including Threatened, Endangered, and special status species); vegetation resources (including Threatened, Endangered, and special status species); heritage resources; paleontological resources; socioeconomics; recreation; visual quality; range; roadless characteristics; and air quality.

Permits or Licenses Required

Should a lease be issued and before any mining activity could commence, the lessee must obtain a coal mining and reclamation permit from the Utah Division of Oil, Gas and Mining consistent with the requirements of the Surface Mining Control and Reclamation Act of 1977 (SMCRA) as codified in 30 CFR 700 to end, and the Utah Coal Rules. Other Federal and State permits would also be required.

Scoping Process

Scoping for this Supplemental EIS was completed in preparation of the previous EIS. The original Notice of Intent (NOI) for the Greens Hollow Coal Lease Tract was printed in the Federal Register (Vol. 73, No. 29, pp. 8060-8062) on February 12, 2008. The NOI designated a 45-day comment period ending March 28, 2008, when comments would be most useful. A public notice was also distributed to interested individuals on the BLM, Price Field Office and Manti-La Sal and Fishlake National Forests mailing lists. A legal notice was also sent to local newspapers to notify the general public.

A content analysis of the comments received on the Draft EIS was prepared. A summary of the issues and concerns, grouped by discipline or resource, identified during the scoping process were analyzed in the EIS, while a more detailed record of responses received were compiled into a scoping report for the project.

Other Public Involvement

The Draft EIS for the Greens Hollow Coal Lease Tract was released and distributed on March 26, 2009. The EPA Notice of Availability (NOA) was published in the Federal Register on April 3, 2009, initiating the formal 45-day coment period on the Draft EIS. The BLM NOA appeared in the Federal Register on April 6, 2009. The Forest Service Legal Notice of Proposed Action appeared in the local newsapers on April 14 and 15, 2009. The NOA was also posted on the BLM's Environmental Notification Bulletin Board on April 3, 2009. An electronic copy of the Draft EIS was also made available on the BLM's Web site and hard copies were mailed to the project mailing list. Responses to comments on the Draft EIS were included in the Final EIS, Appendix C.

The Final EIS was released to the public on December 14, 2011. The EPA NOA was published in the Federal Register on December 23, 2011. On February 13, 2012, an appeal was filed with the Region 4, Regional Forester. Following the appeal, the decision was made to withdraw the Record of Decision and conduct additional analysis.

Dated: October 11, 2012.
Allen Rowley,
Forest Supervisor, Fishlake and Manti LaSal National Forests.

[FR Doc. 2012-25663 Filed 10-17-12; 8:45 am]

BILLING CODE 3410-11-P